SECURITIES AND EXCHANGE COMMISSION

[Release No. 34-83784; File No. SR-CboeBZX-2017-006]

Self-Regulatory Organizations; Cboe BZX Exchange, Inc.; Notice of Withdrawal of a Proposed Rule Change, as Modified by Amendment No. 1, To List and Trade Shares of Twelve Monthly Series of the Cboe Vest S&P 500 Enhanced Growth Strategy ETF Under the ETF Series Solutions Trust Under Rule 14.11(c)(3), Index Fund Shares

August 7, 2018.

On November 21, 2017, Cboe BZX Exchange, Inc. (“Exchange”) filed with the Securities and Exchange Commission (“Commission”), pursuant to Section 19(b)(1) of the Securities Exchange Act of 1934 (“Act”) ¹ and Rule 19b-4 thereunder,² a proposed rule change to list and trade, under BZX Rule 14.11(c)(3), shares of twelve monthly series of the Cboe Vest S&P 500® Enhanced Growth Strategy ETF under the ETF Series Solutions Trust. The proposed rule change was published for comment in the Federal Register on December 11, 2017.³ On January 22, 2018, the Commission extended the time period within which to approve the proposed rule change, disapprove the proposed rule change, or institute proceedings to determine whether to approve or disapprove the proposed rule change to March 11, 2018.⁴ On March 9, 2018, the Commission instituted proceedings under Section 19(b)(2)(B) of the Act ⁵ to determine whether to approve or disapprove the proposed rule change.⁶ On April 13, 2018, the Exchange filed Amendment No. 1 to the proposed rule change.⁷ On June 6, 2018, the Commission designated a longer period for Commission action on the proposed rule change.⁸ The Commission received no comments on the proposed rule change. On July 31, 2018, the Exchange withdrew the proposed rule change.

¹ 15 U.S.C. 78s(b)(1).

² 17 CFR 240.19b-4.

³ See Securities Exchange Act Release No. 82216 (December 5, 2017), 82 FR 58235.

⁴ See Securities Exchange Act Release No. 82552, 83 FR 3819 (January 26, 2018).

⁵ 15 U.S.C. 78s(b)(2)(B).

⁶ See Securities Exchange Act Release No. 82843, 83 FR 11264 (March 14, 2018).

⁷ Amendment No. 1, which amended and replaced the proposed rule change in its entirety, is available at: https://www.sec.gov/comments/sr-cboebzx-2017-006/cboebzx2017006-3458512-162202.pdf.

⁸ See Securities Exchange Act Release No. 83388, 83 FR 27356 (June 12, 2018).

For the Commission, by the Division of Trading and Markets, pursuant to delegated authority.⁹
⁹ 17 CFR 200.30-3(a)(12).
Eduardo A. Aleman,
Assistant Secretary.

[FR Doc. 2018-17250 Filed 8-10-18; 8:45 am]

BILLING CODE 8011-01-P